DEPARTMENT OF COMMERCE

Office of the Secretary

[Docket No. 050214038-5038-01]

Strengthening America's Communities Advisory Committee

AGENCY: Office of the Secretary, Department of Commerce

ACTION: Extension of deadline for submitting nominations.

SUMMARY: On March 1, 2005, the Department of Commerce (the “Department”) published a notice in the Federal Register (70 FR 9916) announcing the formation of the Strengthening America's Communities Advisory Committee (the “Committee”) and soliciting nominations for persons to serve on the Committee. The March 1, 2005 notice provides that all nominations of potential members must be received by the Department no later than 4 p.m. (EST) on March 11, 2005. The March 1, 2005 notice also provides additional information concerning the Committee and membership on the Committee. This notice extends the deadline for submitting nominations of potential members until 4 p.m. (EST) on March 25, 2005, in order to provide the public with more time to consider and submit nominations. Other than extending the deadline for submitting nominations, the evaluation criteria for selecting members and the specific instructions for submitting nominations contained in the March 1, 2005 notice shall continue to apply.

DATES: Nominations must be received by the Department at the address listed below no later than 4 p.m. (EST) on March 25, 2005.

ADDRESSES: Nominations of potential members may be submitted by (i) postal mail, (ii) facsimile, or (iii) e-mail. Please submit nominations by postal mail to David A. Sampson, Assistant Secretary for Economic Development, Economic Development Administration, Department of Commerce, Room 7800, 1401 Constitution Avenue, NW., Washington, DC 20230. Nominations may be submitted via facsimile to (202) 273-4723; all facsimiles should be addressed to the attention of Assistant Secretary for Economic Development David A. Sampson. E-mail submissions must be addressed to saci@eda.doc.gov and should include all nomination materials (including attachments) in a single transmission. The Department strongly encourages applicants to submit nominations by facsimile or e-mail. Nominations sent by postal mail may be substantially delayed in delivery, since all postal mail sent to the Department is subject to extensive security screening.

FOR FURTHER INFORMATION CONTACT: The Office of Chief Counsel, Economic Development Administration, Department of Commerce, Room 7005, 1401 Constitution Avenue, NW., Washington DC 20230, telephone (202) 482-4687.

SUPPLEMENTARY INFORMATION: On February 3, 2005, the Secretary of Commerce (the “Secretary”) and the Secretary of Housing and Urban Development jointly announced the President's Strengthening America's Communities Initiative (the “Initiative”). The Initiative proposes to transfer and consolidate 18 Federal economic and community development programs from the Departments of Agriculture, Commerce, Health and Human Services, Housing and Urban Development and Treasury within the Department, ultimately comprising a $3.71 billion unified grant program.

On February 9, 2005, the President's Domestic Policy Council requested the Secretary form the Committee. The objectives and duties of the Committee will be to provide advice and recommendations to the Secretary, and to develop a comprehensive written report of policy parameters to assist in implementing the Initiative, including advising on its legislation, regulations and other guidance. The Committee's report will encompass all aspects of the envisioned Initiative, including policy findings and declarations, organizational structure, eligibility, program delivery, monitoring and performance measures. The Committee is expected to deliver its report to the Secretary by May 31, 2005. Thereafter, the Committee may be asked to advise the Secretary on additional issues relating to the Initiative.

The Committee is intended to have a balanced membership from diverse backgrounds and geographical regions, including the private sector, state, local and tribal government officials, community-based organizations, academia and the research community. Nominees should possess an extensive knowledge of, and background in, the fields of rural or urban economic or community development. Nominees should also possess recognized development policy expertise and excellent leadership, communication and organizational skills. The evaluation criteria for selecting members and the specific instructions for submitting nominations contained in the March 1, 2005 notice shall continue to apply. Additional information on the Initiative is available on the Department's Web site at http://www.commerce.gov/SACI/index.htm.

Privacy Act

Section 301 of title 5 United States Code and 15 CFR part 4, subpart B authorize and govern collection of this information. The primary use of this information is to allow officials of the Department and its operating units to review applications and to conduct vetting of applicants to make decisions concerning the nomination or re-nomination of candidates for membership on the Committee. Records may be disclosed under the following routine use circumstances: (1) To any Federal, state, or local agency maintaining civil, criminal, or other relevant enforcement information, if necessary to obtain information relevant to a Department decision concerning the assignment, hiring, or retention of an individual; the issuance of a security clearance; the letting of a contract; or the issuance of a license, grant, or benefit. (2) To any Federal, state, local, or foreign agency charged with the responsibility of investigating or prosecuting any violation or potential violation of law or contract, whether civil, criminal, or regulatory in nature, and whether arising by general statute or particular program statute or contract, rule, regulation, or order, to protect the interests of the Department. (3) To any Federal, state, local, or international agency, in response to its request, in connection with the assignment, hiring, or retention of an individual, the issuance of a security clearance, the reporting of an investigation of an individual, the letting of a contract, or any other benefit of the requesting agency, to the extent that the information is relevant and necessary to the requesting agency's decisions on the matter. (4) To a Member of Congress submitting a request involving an individual when the individual has requested assistance from the Member with respect to the subject matter of the record. (5) To the Department of Justice in connection with determining whether disclosure is of the record is required under the Freedom of Information Act.

Collection of this information, including your Social Security number is voluntary but failure to furnish it will result in your application not being considered. Collection of your Social Security number is authorized under Executive Order No. 9397. The Department will use this number to distinguish you from other members of the public who may have the same or similar name.

Dated: March 8, 2005.
Theodore W. Kassinger,
Deputy Secretary of Commerce.

[FR Doc. 05-4905 Filed 3-10-05; 8:45 am]

BILLING CODE 3510-24-P